POSTAL SERVICE

39 CFR Part 111

Forms of Identification

AGENCY: Postal Service™.

ACTION: Proposed rule.

SUMMARY: The Postal Service is proposing to amend Mailing Standards of the United States Postal Service, Domestic Mail Manual (DMM®) for clarity and consistency in the standards regarding forms of identification.

DATES: Submit comments on or before April 1, 2019.

ADDRESSES: Mail or deliver written comments to the manager, Product Classification, U.S. Postal Service, 475 L'Enfant Plaza SW, Room 4446, Washington, DC 20260-5015. If sending comments by email, include the name and address of the commenter and send to ProductClassification@usps.gov, with a subject line of “Forms of Identification”. Faxed comments are not accepted.

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Karen Key at (202) 268-7492, Catherine Knox at (202) 268-5636, or Garry Rodriguez at (202) 268-7281.

SUPPLEMENTARY INFORMATION: The Postal Service is proposing to amend the DMM in various sections for clarity and consistency in the standards regarding forms of identification.

The Postal Service is proposing to add a new section 608.10.0, Forms of Identification. This new section will act as the primary source for consistent standards on forms of acceptable and unacceptable identification. DMM section 608.10.0 will include subsections that: (1) Provide a table of the products and services that require forms of acceptable identification and the number of forms (primary and secondary) required, (2) provide a description of “primary” forms of acceptable identification and include a table of which “primary” forms are acceptable for each product and service, (3) provide a description of “secondary” forms of acceptable identification, and (4) provide examples of forms of unacceptable identification.

Changes to the “primary” forms of acceptable identification will also specify that some forms of foreign identification are accepted, including for establishing Post Office Box service. The use of university identification cards for certain services is being eliminated. University identification cards are not recognized as proof of identity by other federal agencies such as the TSA, IRS, and the State Department.

The Postal Service is also proposing to amend the applicable product and service sections to point to the new section 608.10.0. This will remove inconsistent and redundant text from the DMM. This includes amending current section 507.2.1.4a to expressly require a “primary” form of acceptable identification under 608.10.3 when presenting Form 3575, Mail Forwarding Change of Address Order, at a Post Office. The filing methods for a change-of-address will be limited to presenting Form 3575 at a Post Office or using internet Change of Address (ICOA) at https://moversguide.usps.com. The Postal Service will also update Form 3575 to reflect this requirement.

In addition, the Postal Service will update Mailing Standards of the United States Postal Service, International Mail Manual (IMM®) and Publication 52, Hazardous, Restricted, and Perishable Mail, under separate cover.

We believe the proposed revisions will ensure clarity and consistency enabling the Postal Service to provide a superb customer experience from sender to receiver.

List of Subjects in 39 CFR Part 111

Administrative practice and procedure, Postal Service.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. See 39 CFR 111.1.

We will publish an appropriate amendment to 39 CFR part 111 to reflect these changes.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

500 Additional Mailing Services

503 Extra Services

* * * * *

8.0 USPS Signature Services

8.1 Basic Standards

8.1.1 Description

* * * USPS Signature Services are available as follows:

* * * * *

[Revise the second sentence in the introductory text of item c to read as follows:]

c. * * * Prior to delivery, the recipient must provide a primary form of acceptable identification under 608.10.3. * * *

* * * * *

9.0 Collect on Delivery (COD)

9.1 Basic Standards

9.1.1 Description

[Revise the fourth sentence in 9.1.1 to read as follows:]

* * * The recipient has the option to pay the COD charges (with a single form of payment) by cash, or a personal check or money order made payable to the mailer (accepted by the USPS employee upon the recipient's presentation of a primary form of acceptable identification under 608.10.3). * * *

* * * * *

505 Return Services

* * * * *

4.0 Parcel Return Service

* * * * *

4.2 Basic Standards

* * * * *

4.2.5 Approval

The manager, Business Mailer Support reviews each request and proceeds as follows:

[Revise the text of item a to read as follows:]

a. If the applicant meets the criteria, the manager, Business Mailer Support approves the letter of request and sends an authorization letter outlining the terms and conditions for the program. PRS permit holders must submit the authorization letter and Form 3801, Standing Delivery Order, to each applicable facility. A primary form of acceptable identification under 608.10.3 is required before each pickup.

* * * * *

507 Mailer Services

* * * * *

2.0 Forwarding

2.1 Change-of-Address Order

* * * * *

2.1.4 Methods of Filing

Customers may use one of the following methods to file a change-of-address with the Post Office:

[Revise the text of item a to read as follows:]

a. Present Form 3575 to any Post Office, or as otherwise directed by the Postal Service. A customer must provide a primary form of acceptable identification under 608.10.3.

* * * * *

3.0 Hold for Pickup

* * * * *

3.2 Basic Information

3.2.1 Description

[Revise the text of 3.2.1 by adding a new second sentence to read as follows:]

* * * The addressee or designee must provide a primary form of acceptable identification under 608.10.3. * * *

* * * * *

508 Recipient Services

1.0 Recipient Options

1.1 Basic Recipient Concerns

* * * * *

1.1.5 Addressee Identification

[Revise the text of 1.1.5 to read as follows:]

If a person claiming to be the addressee of certain mail is unknown to the delivery employee, the mail may be withheld pending presentation of a primary form of acceptable identification of the claimant under 608.10.3 or suitable under 508.6 for general delivery.

* * * * *

1.1.7 Priority Mail Express and Accountable Mail

The following conditions also apply to the delivery of Priority Mail Express, Registered Mail, Certified Mail, mail insured for more than $500.00, Adult Signature, or COD, as well as mail for which a return receipt is requested or the sender has specified restricted delivery.

* * * * *

[Revise the text of item c to read as follows:]

c. A primary form of acceptable identification under 608.10.3 may be required of the recipient before delivery of the mailpiece.

* * * * *

1.1.8 Additional Delivery Standards for Restricted Delivery

[Revise the introductory text of 1.1.8 to read as follows:]

In addition to the standards described under 1.1.7, mail marked “Restricted Delivery” is delivered only to the addressee or to the person authorized in writing as the addressee's agent (the USPS may require a primary form of acceptable identification under 608.10.3 from the addressee (or agent) to receive the mail) and under the following conditions:

* * * * *

1.8 Commercial Mail Receiving Agencies

1.8.1 Procedures

The procedures for establishing a commercial mail receiving agency (CMRA) are as follows:

* * * * *

[Revise the text of item b to read as follows:]

b. Each CMRA must register with the Post Office responsible for delivery. Any person who establishes, owns, or manages a CMRA must provide Form 1583-A, Application to Act as a Commercial Mail Receiving Agency, to the postmaster (or designee) responsible for the delivery address. The CMRA owner or manager must complete all entries and sign the Form 1583-A. The CMRA owner or manager must provide a primary and secondary form of acceptable identification under 608.10.0. It must contain sufficient information to confirm that the applicant is who he or she claims to be and is traceable to the bearer. The postmaster (or designee) may retain a photocopy of the acceptable identification for verification purposes and must list and record sufficient information to identify the two types of acceptable identification on Form 1583-A (block 10). Furnishing false information on the application or refusing to give required information is reason for denying the application. When any information required on Form 1583-A changes, the CMRA owner or manager must file a revised application (write “revised” on the form) with the postmaster.

* * * * *

1.8.2 Delivery to CMRA

Procedures for delivery to a CMRA are as follows:

[Revise the text of item a to read as follows:]

a. Mail delivery to a CMRA requires that the CMRA owner or manager and each addressee complete and sign Form 1583, Application for Delivery of Mail Through Agent. Spouses may complete and sign one Form 1583. Each spouse must provide a primary and secondary form of acceptable identification under 608.10.0. If any information that is required on Form 1583 is different for either spouse it must be entered in the appropriate box. A parent or guardian may receive delivery of a minor's mail by listing the name(s) of each minor on Form 1583 (block 12). The CMRA owner or manager, authorized employee, or a notary public must witness the signature of the addressee. The addressee must complete all entries on Form 1583. The CMRA owner or manager must verify the documentation to confirm that the addressee resides or conducts business at the permanent address shown on Form 1583. The address is verified if there is no discrepancy between information on the application and the identification presented. If the information on the application does not match the identification, the applicant must substantiate to the CMRA that the applicant resides or conducts business at the address shown. A document from a governmental entity or recognized financial institution or a utility bill with the applicant's name and current permanent address may be used for such purpose. If the applicant is unable to substantiate the address, the CMRA must deny the application. Furnishing false information on the application or refusing to give required information is reason for withholding the addressee's mail from delivery to the agent and returning it to the sender. When any information required on Form 1583 changes, the addressee must file a revised application (write “revised” on the form) with the CMRA. The addressee must provide a primary and secondary form of acceptable identification under 608.10.0. It must contain sufficient information to confirm that the applicant is who he or she claims to be and is traceable to the bearer. The CMRA owner or manager may retain a photocopy of the identification for verification purposes. The CMRA owner or manager must list and record sufficient information to identify the primary and secondary forms of acceptable identification on Form 1583 (block 8) and write the complete CMRA delivery address used to deliver mail to the addressee on Form 1583 (block 3).

* * * * *

4.0 Post Office Box Service

* * * * *

4.2 Service

4.2.1 Application

[Revise the second sentence in the introductory text of 4.2.1 to read as follows:]

* * * When the application is presented, the applicants (including both spouses or any other individual listed except for minors) each must present two items of valid, current identification; one a primary form of acceptable identification under 608.10.3, and the other a secondary form of acceptable identification under 608.10.4 that must contain sufficient information to confirm the applicant's identity and be traceable to the bearer. * * *

a. In all cases:

* * * * *

[Delete item a5 in its entirety.]

* * * * *

5.0 Caller Service

* * * * *

5.3 Service

5.3.1 Application

[Revise the text of 5.3.1 to read as follows:]

To reserve a caller number for future use or to apply for caller service, the applicant must complete all relevant spaces on Form 1093-C, Application for Post Office Caller Service, and submit it to any postal facility that provides retail service. The facility need not be the one where destination caller service is desired. An incomplete or falsified application is sufficient reason to deny or discontinue service. An application is not considered approved until the USPS verifies the applicant's identity. Primary and secondary forms of acceptable identification can be found under 608.10.

* * * * *

5.8 Accelerated Reply Mail (ARM)

* * * * *

5.8.8 Mailer Compliance

[Revise the second sentence of 5.8.8 to read as follows:]

* * * Besides completing Form 1093-C, an applicant for ARM must also complete Form 8061 and submit both forms to the facility where ARM service is desired.

5.8.9 USPS Actions

[Revise the text of 5.8.9 to read as follows:]

ARM service is not provided until the USPS verifies the applicant's primary and secondary forms of acceptable identification under 608.10., and service availability at the requested facility, and makes scheme preparations.

* * * * *

7.0 Premium Forwarding Services

* * * * *

7.2 Premium Forwarding Service Residential

* * * * *

7.2.4 Use

Participation in PFS-Residential is subject to the following additional standards:

[Revise item a by adding a new last sentence to read as follows:]

a. * * * Customers must provide a primary and secondary form of acceptable identification under 608.10.0 with the completed Form 8176.

* * * * *

8.0 Firm Holdout

* * * * *

8.2 Obtaining and Using Service

[Revise the text of 8.2 by adding a new third sentence to read as follows:]

* * * Each employee or authorized agent is required to provide a primary form of acceptable identification under 608.10.3. * * *

* * * * *

509 Other Services

* * * * *

3.0 Money Orders

* * * * *

3.2.2 Purchase Restrictions

A postal customer may buy multiple money orders at the same time, in the same or differing amounts, subject to these restrictions:

[Revise the text of item b to read as follows:]

b. Any customer whose daily total of purchased money orders is $3,000 or more, regardless of the number of visits made by the customer to one or more postal facilities, must complete Form 8105-A, Funds Transaction Report (FTR), and show a primary form of acceptable identification under 608.10.3.

* * * * *

3.3 Cashing Money Orders

* * * * *

3.3.2 Redemption

[Revise the third sentence of 3.3.2 to read as follows:]

* * * Any customer whose daily total of cashed money orders exceeds $10,000.00, irrespective of the number of Post Offices visited to cash the money orders, must also complete Form 8105-A, Funds Transaction Report (FTR), and show a primary form of acceptable identification under 608.10.3.

3.3.3 Identification

[Revise the first sentence of 3.3.3 to read as follows:]

When presenting a money order for payment, the customer seeking payment must sign in the presence of a USPS employee; a primary form of acceptable identification under 608.10.3 can be required. * * *

* * * * *

600 Basic Standards for All Mailing Services

* * * * *

604 Postage Payment Methods and Refunds

* * * * *

9.0 Exchanges and Refunds

9.1 Stamp Exchanges

* * * * *

9.1.4 Purchase Error

[Revise the last sentence of 9.1.4 to read as follows:]

* * * A customer exchanging $250 or more of such stock must provide a primary form of acceptable identification under 608.10.3, and must present the stock for exchange to the postal unit from which his or her mail is delivered.

* * * * *

608 Postal Information and Resources

* * * * *

[Add new section 608.10, Forms of Identification, to read as follows:]

608.10 Forms of Identification

10.1 General

This section describes the products and services that require forms of acceptable identification, the number of forms of acceptable identification (primary and secondary), the acceptable forms of primary and secondary identification, and forms of unacceptable identification as follows:

a. Section 10.2 provides a table of the products and services that require forms of acceptable identification and the number of forms (primary and secondary) required.

b. Section 10.3 provides a description of primary forms of acceptable identification and a table of which forms are acceptable for each product and service.

c. Section 10.4 provides a description of secondary forms of acceptable identification.

d. Section 10.5 provides examples of forms of unacceptable identification.

10.2 Products and Services Requiring Forms of Acceptable Identification

Certain products and services may require forms of acceptable identification in the application process, and/or receipt of an item. When identification is required, the identification presented must be current. Exhibit 10.2 provides a list of the products and services requiring forms of identification and the number of required forms of acceptable identification (primary and secondary).

Exhibit 10.2—Products and Services Requiring Forms of Acceptable Identification
Products/services | Primary ID | Secondary ID
Caller Service | ✓ | ✓
Certified Mail Services | ✓ |
Change-of-Address (COA) | ✓ |
Collect on Delivery (COD) | ✓ |
Commercial Mail Receiving Agency (CMRA) | ✓ | ✓
Firm Holdout | ✓ |
Hold For Pickup | ✓ |
Hold Mail | ✓ |
Insurance Services | ✓ |
Money Order | ✓ |
Parcel Return Service | ✓ |
P.O. Box | ✓ | ✓
Premium Forwarding Service | ✓ | ✓
Priority Mail Express | ✓ |
Registered Mail Services | ✓ |
Sure Money (DineroSeguro) | ✓ |
USPS Signature Services | ✓ |

10.3 Primary Forms of Acceptable Photo Identification

This section provides a description of the acceptable primary forms of photo identification which must include a clear photograph of the individual bearer. Exhibit 10.3 provides a table of the products and services that require a valid primary form of identification and which forms are acceptable for that product or service.

a. U.S. Government I.D.—U.S. Government I.D. may be federal, state, or tribal issued. A customer may use a state-issued driver's license or non-driver's identification card, U.S. Armed Forces card or Uniformed Service ID card, U.S. permanent resident or other identification card issued by U.S. Citizenship and Immigration Services, U.S. certificate of citizenship or naturalization, or an identification card issued by a federally or state recognized tribal nation (tribal identification card), as acceptable forms of photo identification.

b. Passport—A customer may use a U.S. passport, U.S. passport card, or foreign passport as acceptable forms of photo identification.

c. Matricula Consular (Mexico)—A customer may use a Matricula Consular card as an acceptable form of photo identification. A Matricula Consular card is an identification card issued by the Government of Mexico through its consulate offices to Mexican nationals residing outside of Mexico.

d. NEXUS (Canada)—A customer may use a NEXUS card as an acceptable form of photo identification. A NEXUS card used as a form of identification for money orders must contain an identification number. NEXUS is a joint Canada Border Services Agency and U.S. Customs and Border Protection operated trusted traveler and expedited border control program.

e. Corporate Identification—A customer may use a corporate identification card of a corporation located and organized in good standing in the United States as an acceptable form of photo identification for certain services, as specified in Exhibit 10.3.

Exhibit 10.3—Primary Forms of Acceptable Photo Identification for Products and Services
Products/services | U.S. Gov't | U.S./foreign passports | Matricula Consular Mexico | NEXUS Canada | U.S. Corp.
Caller Service | ✓ | ✓ | ✓ | ✓ | ✓
Certified Mail Services | ✓ | ✓ | ✓ | ✓ |
Change-of-Address (COA) | ✓ | ✓ | ✓ | ✓ |
Collect on Delivery (COD) | ✓ | ✓ | ✓ | ✓ |
CMRA | ✓ | ✓ | ✓ | ✓ |
Firm Holdout | ✓ | ✓ | ✓ | ✓ | ✓
Hold For Pickup | ✓ | ✓ | ✓ | ✓ |
Hold Mail | ✓ | ✓ | ✓ | ✓ |
Insurance Services | ✓ | ✓ | ✓ | ✓ |
Money Order | ✓ | ✓ | ✓ | ✓ |
Parcel Return Service | ✓ | ✓ | ✓ | ✓ | ✓
P.O. Box | ✓ | ✓ | ✓ | ✓ |
Premium Forwarding Service | ✓ | ✓ | ✓ | ✓ |
Priority Mail Express | ✓ | ✓ | ✓ | ✓ |
Registered Mail Services | ✓ | ✓ | ✓ | ✓ |
Sure Money (DineroSeguro) | ✓ | ✓ | ✓ | ✓ |
USPS Signature Services | ✓ | ✓ | ✓ | ✓ |

10.4 Secondary Forms of Acceptable Identification

As provided under 10.2, certain products and services require a secondary form of acceptable identification that is traceable to the bearer, in order to verify the validity of the address provided by the customer when applying for those products and services. A customer may use an additional valid primary form of acceptable identification to meet the secondary form of acceptable identification requirement. A customer may also use a non-photo form of acceptable identification such as: A current lease, mortgage, or deed of trust; voter or vehicle registration card; home or vehicle insurance policy; utility bill; or Form I-94, Arrival and Departure Record.

10.5 Forms of Unacceptable Identification

As specified under 608.10.0, acceptable forms of identification provide proof of identity and validation of an address. Social Security cards, birth certificates, credit cards or other similar items are unacceptable as primary or secondary forms of identification.

* * * * *

Ruth B. Stevenson,
Attorney, Federal Compliance.

[FR Doc. 2019-03712 Filed 2-28-19; 8:45 am]

BILLING CODE 7710-12-P